DEPARTMENT OF ENERGY

Federal Energy Regulatory Commission

[Docket No. CP07-406-000]

Monroe Gas Storage Company, LLC; Notice of Intent To Prepare an Environmental Assessment for the Proposed Monroe Gas Storage Project and Request for Comments on Environmental Issues

July 23, 2007.

The staff of the Federal Energy Regulatory Commission (FERC or Commission) will prepare an environmental assessment (EA) that will discuss the environmental impacts of the Monroe Gas Storage Project involving construction and operation of facilities by Monroe Gas Storage Company, LLC (MGSC) in Monroe County, Mississippi and Lamar County, Alabama.¹ MGSC proposes to convert an existing, but depleted, natural gas well field, the Four Mile Creek Field originally developed by Grace Petroleum, to natural gas storage service in Monroe County, Mississippi. The EA will be used by the Commission in its decision-making process to determine whether the project is in the public convenience and necessity.

¹ On June 26, 2007, MGSC filed its application with the Commission under section 7(c) of the Natural Gas Act, 15 United States Code section 717(b)(a), and Parts 157 and 284 of the Commission's regulations. The Commission filed its notice of application on July 3, 2007.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice MGSC provided to landowners. This fact sheet addresses a number of typically asked questions, including the use of eminent domain and how to participate in the Commission's proceedings. It is available for viewing on the FERC Internet Web site (http://www.ferc.gov).

Summary of the Proposed Project

MGSC proposes to expand the capacity of its natural gas facilities in Mississippi and Alabama to provide approximately 12.0 billion cubic feet of working gas capacity, for the purpose of receiving, injecting, withdrawing and redelivering natural gas to its system. MGSC seeks authority to:

• Develop nine new natural gas injection/withdrawal wells;

• Convert five existing natural gas production wells to observation wells;

• Install approximately 2.0 miles of gathering pipelines of 12- and 18-inch diameters;

• Build an integrated compressor station/control facility consisting of three 4,735 brake horsepower (bhp) natural gas fueled engines driving reciprocating compressors equipped with air intake filters/silencers, critical grade exhaust silencer/catalyst, a glycol dehydration system, control and safety systems, and associated facilities;

• Install approximately 5.7 miles of 24-inch diameter lateral pipeline connecting the proposed compressor station with the Texas Eastern Transmission Corporation (TETCO) pipeline (TETCO lateral);

• Install approximately 17.2 miles of 24-inch diameter lateral pipeline connecting the compressor station with the Tennessee Gas Pipeline Company (TGP) pipeline (TGP lateral), including two isolation block valves within the pipeline right-of-way; and

• Build two metering and regulation stations, one at each interconnection point of the TETCO and TGP laterals with the TETCO and TGP pipeline systems.

MGSC states that the only nonjurisdictional facility associated with the Monroe Gas Storage Project consists of the local electric distribution line that will supply power to the facility. This facility would be constructed and operated by local electric utility companies.

The general location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary, refer to the last page of this notice. Copies of the appendices were sent to all those receiving this notice in the mail.

Land Requirements for Construction

Construction of the proposed facilities would require about 262.8 acres of land. Following construction, about 149.1 acres would be maintained as new aboveground facility sites or pipeline right-of-way. MGSC has proposed to locate the storage facilities within a depleted natural gas reservoir originally developed by Grace Petroleum. Land requirements for meter stations would be purchased, and the remainder of pipeline rights-of-way would be acquired by easement.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA, we ³ will discuss impacts that could occur as a result of the construction and operation of the proposed project under these general headings:

³ “We”, “us”, and “our” refer to the environmental staff of the Office of Energy Projects (OEP).

• Geology and Soils

• Land Use

• Water Resources, Fisheries, and Wetlands

• Cultural Resources

• Vegetation and Wildlife

• Threatened and Endangered Species

• Air Quality and Noise

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by MGSC. This preliminary list of issues may be changed based on your comments and our analysis.

• A total of 118.7 acres of forested land would be cleared during construction.

• Air and noise quality may be affected by added facilities.

• Aboveground facilities would be located in wetlands.

Also, we have made a preliminary decision to not address the impacts of the nonjurisdictional facility. We will briefly describe its location and summarize the status of state and local environmental reviews in the EA.

Public Participation

You can make a difference by providing us with your specific comments or concerns about the project. By becoming a commenter, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426.

• Label one copy of the comments for the attention of OEP/DG2E, Gas Branch 3.

• Reference Docket No. CP07-406-000.

• Mail your comments so that they will be received in Washington, DC on or before August 24, 2007.

We will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Site Visit

On August 10, 2007, the OEP staff will conduct a site visit of the planned MGSC Gas Storage Project. We will view the proposed facility locations and pipeline route. Examination will be by automobile and on foot. Representatives of MGSC will be accompanying the OEP staff.

All interested parties may attend. Those planning to attend must provide their own transportation and should meet at 9 a.m. (CST) at the Amory City Hall, 109 South Front Street, Amory, MS on August 10, 2007.

For additional information, please contact the Commission's Office of External Affairs at 1-866-208-FERC (3372).

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E7-14743 Filed 7-30-07; 8:45 am]

BILLING CODE 6717-01-P